DEPARTMENT OF DEFENSE

Department of the Army

Army Science Board; Notice of Open Meeting

In accordance with section 10(a)(2) of the Federal Advisory Committee Act (Pub.L. 92-463), announcement is made of the following Committee Meeting:

Name of Committee: Army Science Board (ASB).

Date of Meeting: 31 October 2001 through 01 November 2001.

Time of Meeting: 0800-1700.

Place: Institute for Defense Analyses, 1801 North Beauregard Street, Alexandria, VA.

Agenda: The Army Science Board's (ASB) FY2002 Summer Study “Methods to Reduce O&S Costs in the Future Army” leadership group will meet to discuss the upcoming studies and other related issues. This meeting will be open to the public. Any interested person may attend, appear before, or file statements with the committee at the time and in the manner permitted by the committee. For further information, please contact MAJ Robert B. Grier, Executive Officer, Army Science Board (703) 604-7478.

Wayne Joyner,
Executive Assistant, Army Science Board.

[FR Doc. 01-26718 Filed 10-23-01; 8:45 am]

BILLING CODE 3710-08-M